FEDERAL COMMUNICATIONS COMMISSION

[OMB 3060-0484, OMB 3060-1003, OMB 3060-1271; FR ID 91859]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before July 21, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0484.

Title: Amendments to Part 4 of the Commission's Rules Concerning Disruptions to Communications.

Form Number: N/A.

Type of Review: Revision of a currently approved collection.

Respondents: Business or other for-profit; Not-for-profit institutions; State, Local or Tribal Government.

Number of Respondents and Responses: 1,065 respondents; 27,395 responses.

Estimated Time per Response: 1 hour-2 hours (average per response).

Frequency of Response: On occasion and annual reporting requirements and recordkeeping requirement.

Obligation to Respond: Mandatory and Voluntary. Statutory authority for this collection is contained in sections 1, 4(i), 4(j), 4(o), 251(e)(3), 254, 301, 303(b), 303(g), 303(r), 307, 309(a), 309(j), 316, 332, and 403 of the Communications Act of 1934, as amended, and section 706 of the Telecommunications Act of 1996, 47 U.S.C. 151, 154(i)-(j) & (o), 251(e)(3), 254, 301, 303(b), 303(g), 303(r), 332, 403, and 1302.

Total Annual Burden: 54,215 hours.

Total Annual Cost: No Cost.

Privacy Act Impact Assessment: No impact(s).

Nature and Extent of Confidentiality: In accordance with 47 CFR 4.2, reports and information contained in the underlying NORS filings are presumed confidential. The filings are shared with the Department of Homeland Security through password-protected real time access to NORS. Other persons seeking disclosure must follow the procedure delineated in 47 CFR 0.457 and 0.459 of the Commission's Rules for requests for and disclosure of information. The modified collection proposed here will allow “need to know” agencies acting on behalf of the federal government, the 50 states, the District of Columbia, Tribal Nations, and the U.S. territories access to confidential information derived from NORS filings based on events occurring within an agency's jurisdiction, provided those agencies maintain the confidentiality of the information and report any breach of that confidentiality.

The Commission has adopted procedures allowing state, federal, local, and Tribal agencies with a demonstrated “need to know” to apply for “read-only” access to NORS reports impacting locations where the agency has jurisdiction. To protect the confidentiality of the NORS and DIRS information disclosed to these Participating Agencies, the Commission limited the access to only those agencies who complete the registration process and then limits by geographic area the reports available to each Participating Agency. The Commission also adopted safeguards to protect the data accessed by Participating Agencies from manipulation and from distribution to unauthorized recipients.

Needs and Uses: The general purpose of the Commission's Part 4 rules is to gather sufficient information regarding disruptions to telecommunications to facilitate FCC monitoring, analysis, and investigation of the reliability and security of voice, paging, and interconnected Voice over internet Protocol (interconnected VoIP) communications services, and to identify and act on potential threats to our Nation's telecommunications infrastructure. The Commission uses this information collection to identify the duration, magnitude, root causes, and contributing factors with respect to significant outages, and to identify outage trends; support service restoration efforts; and help coordinate with public safety officials during times of crisis. The Commission also maintains an ongoing dialogue with reporting entities, as well as with the communications industry at large, generally regarding lessons learned from the information collection in order to foster a better understanding of the root causes of significant outages and to explore preventive measures in the future so as to mitigate the potential scale and impact of such outages.

In a Second Report and Order adopted on March 18, 2021, as FCC 21-34, the Commission adopted rules allowing certain federal, state, and Tribal Nation agencies 10 (Participating Agencies) to access to certain geographically relevant outage reports filed in the Commission's Network Outage Reporting System (NORS). The information collections and record keeping provisions adopted will allow federal, state and Tribal Nation agencies (Participating Agencies) to apply for, and receive access to, NORS report in the areas where they have jurisdiction. The collection will further enable these Participating Agencies, at their election, to share NORS reports with qualified local agencies whose jurisdiction is affected by an outage, while still maintaining the confidentiality of the substantive data. The changes to the data collections fields in the NORS filings made by service providers will further facilitate the ability of Participating Agencies to access those reports relevant to their specific geographies. Finally, the changes to the information collection and associated recordkeeping requirements, including retention by participating agencies of qualification forms submitted by local agency seeking access to NORS data, as well as a list of which local agencies receive information from the Participating Agency, training materials setting clear parameters for the use of NORS data, and a list of those persons granted NORS account access, will enable auditing functions to ensure accountability in the use of NORS information and immediate reporting of breaches of access or confidentiality protocols.

OMB Control Number: 3060-1003.

Title: Communications Disaster Information Reporting System (DIRS).

Form Number: N/A.

Type of Review: Revision of a currently approved collection.

Respondents: Business or other for-profit; Not-for-profit institutions; State, Local or Tribal Government.

Number of Respondents and Responses: 400 respondents; 104,000 responses.

Estimated Time per Response: 1 hour-1.5 hours (average per response).

Frequency of Response: On occasion and annual reporting requirements and recordkeeping requirements.

Obligation to Respond: Voluntary. Statutory authority for this collection is contained in sections 1, 4(i), 4(j), 4(o), 251(e)(3), 254, 301, 303(b), 303(g), 303(r), 307, 309(a), 309(j), 316, 332, and 403 of the Communications Act of 1934, as amended, and section 706 of the Telecommunications Act of 1996, 47 U.S.C. 151, 154(i)-(j) & (o), 251(e)(3), 254, 301, 303(b), 303(g), 303(r), 332, 403, and 1302.

Total Annual Burden: 16,320 hours.

Total Annual Costs: No Cost.

Privacy Act Impact Assessment: No impact(s).

Nature and Extent of Confidentiality: The Commission provides respondents with assurances that their collected filings reports will be treated with a presumption of confidentiality. As noted in the DIRS User Manual, “[b]ecause the information that communications companies input to [their collected filings] is sensitive for national security and/or commercial reasons, [the collected filings] shall be treated as presumptively confidential upon filing.”

In accordance with 47 CFR 4.2, reports and information contained in the underlying DIRS filings are presumed confidential. The filings are shared with the Department of Homeland Security through password-protected real time access to NORS. Other persons seeking disclosure must follow the procedure delineated in 47 CFR 0.457 and 0.459 of the Commission's Rules for requests for and disclosure of information. The modified collection proposed here will allow “need to know” agencies acting on behalf of the federal government, the 50 states, the District of Columbia, Tribal Nations, and the U.S. territories access to confidential information derived from DIRS filings based on events occurring within an agency's jurisdiction, provided those agencies maintain the confidentiality of the information and report any breach of that confidentiality.

The Commission has adopted procedures allowing state, federal, local, and Tribal agencies with a demonstrated “need to know” to apply for “read-only” access to DIRS reports impacting locations where the agency has jurisdiction. To protect the confidentiality of the NORS and DIRS information disclosed to these Participating Agencies, the Commission limited the access to only those agencies who complete the registration process and then limits by geographic area the reports available to each Participating Agency. The Commission also adopted safeguards to protect the data accessed by Participating Agencies from manipulation and from distribution to unauthorized recipients.

Needs and Uses: The Commission launched the Disaster Information Reporting System (DIRS) in 2007 pursuant to its mandate to promote the safety of life and property through the use of wire and radio communication as required by the Communications Act of 1934, as amended. DIRS is a voluntary, efficient, and web-based system that communications companies may use to report their infrastructure status during times of crisis (e.g., related to a disaster). DIRS uses a number of template forms tailored to different communications sectors (i.e., wireless, wireline, broadcast, and cable) to facilitate the entry of this information. To use DIRS, a company first inputs its emergency contact information. After this, they submit information using the template form appropriate for their communications sector. In a Second Report and Order adopted on March 18, 2021, as FCC 21-34, the Commission adopted rules allowing certain federal, state, and Tribal Nation agencies (Participating Agencies) to access to certain geographically relevant reports filed in the Commission's Disaster Information Reporting System (DIRS). The information collections and record keeping provisions adopted will allow Participating Agencies to apply for, and receive access to, DIRS report in the areas where they have jurisdiction. The collection will further enable these Participating Agencies, at their election, to share DIRS reports with qualified local agencies whose jurisdiction is affected by a disaster, while still maintaining the confidentiality of the substantive data. The changes to the data collections fields in the DIRS filings made by service providers will further facilitate the ability of Participating Agencies to access those reports relevant to their specific geographies. Finally, the changes to the information collection and associated recordkeeping requirements, including retention by participating agencies of qualification forms submitted by local agency seeking access to DIRS data, as well as a list of which local agencies receive information from the Participating Agency, training materials setting clear parameters for the use of DIRS data, and a list of those persons granted DIRS account access, will enable auditing functions to ensure accountability in the use of DIRS information and immediate reporting of breaches of access or confidentiality protocols.

The Commission notes that the information sharing framework established in the Second Report and Order allows for access to be granted not only for DIRS, but also to the Commission's Network Outage Reporting System (NORS). We note that the process and requirements for Participating Agencies under this framework is identical, regardless of whether they seek access to NORS, DIRS, or both. Because the Commission anticipates that NORS and DIRS access will be requested together in most cases, it believes that the estimated burden hours and costs for Participating Agencies associated with DIRS access are fully included in the estimates that it has separately submitted as part of its collection on Part 4 of the Commission's Rules Concerning Disruptions to Communications, OMB Control No. 3060-0484. To avoid double-counting the estimated burden hours and costs associated with both collections, the Commission estimates the marginal cost of the Participating Agency aspect of this collection to be zero.

OMB Control Number: 3060-1271.

Title: Promoting Telehealth for Low-Income Consumers, COVID-19 Telehealth Program.

Form Numbers: FCC Forms 460, 461, 462, and 463.

Type of Review: Revision of a currently approved collection.

Respondents: Business or other for-profit; Not-for-profit institutions; Federal Government; and State, Local, or Tribal governments.

Number of Respondents and Responses: 7,210 respondents; 34,553 responses.

Estimated Time per Response: 0.30-25 hours.

Frequency of Response: One-time, annual, and on occasion reporting requirements; recordkeeping requirement.

Obligation to Respond: Required to obtain or retain benefits. Statutory authority for this collection of information is contained in sections 1-4, 201-205, 214, 254, 303(r), and 403 of the Communications Act of 1934, as amended, 47 U.S.C. 151-154, 201-205, 214, 254, 303(r), and 403, and DIVISION B of the Coronavirus Aid, Relief, and Economic Security Act, Public Law 116-136, 134 Stat. 281.

Total Annual Burden: 197,787 hours.

Total Annual Cost: No cost.

Privacy Act Impact Assessment: No Impact(s).

Nature and Extent of Confidentiality: The Name, Address, DUNS Number and Business Type will be disclosed in accordance with the FFATA/DATA Act reporting requirements as part of the COVID-19 Telehealth Program. Also, the COVID-19 Telehealth Program award and disbursement amounts will be made public. We intend to keep other information submitted under the COVID-19 Telehealth Program confidential to the extent permitted by law. There is no assurance of confidentiality provided to respondents as part of the Connected Care Pilot Program, the selected applicants and estimated funding will be made public. Respondents under both programs may request materials or information submitted to the Commission to be withheld from public inspection under 47 CFR 0.459 of the Commission's rules.

Needs and Uses: On March 31, 2020, the Commission adopted a Report and Order entitled Promoting Telehealth for Low-Income Consumers; COVID-19 Telehealth Program, WC Docket No. 18-213, WC Docket No. 20-89 (FCC 20-44), establishing two programs designed to assist health care providers in providing connected care services to consumers—the COVID-19 Telehealth Program and the Connected Care Pilot Program (collectively, Programs). June 2021, the Commission adopted a Second Report and Order, WC Docket No. 18-213 (FCC 21-74), that provided guidance on eligible services, competitive bidding, invoicing, and data reporting for Pilot Program participants. The information collected herein is necessary to meet the specific requirements for information that must be submitted as part of the annual and final reports to the Commission as outlined in the Second Connected Care Report and Order, and for the Commission to receive and evaluate data for the selected projects and ensure compliance with the Commission's rules and procedures applicable to the Connected Care Pilot Program. This submission does not make any changes to the previously approved information collections for the COVID-19 Telehealth Program and some of the previously approved requirements for the Pilot Program.

Federal Communications Commission.
Marlene Dortch,
Secretary, Office of the Secretary.

[FR Doc. 2022-13237 Filed 6-17-22; 8:45 am]

BILLING CODE 6712-01-P